DEPARTMENT OF COMMERCE

International Trade Administration

[A-475-818]

Certain Pasta From Italy: Final Results of Antidumping Duty Administrative Review; 2017-2018

AGENCY: Enforcement and Compliance, International Trade Administration, Department of Commerce.

SUMMARY: On September 12, 2019, the Department of Commerce (Commerce) published the preliminary results of the antidumping duty administrative review of certain pasta (pasta) from Italy. The period of review (POR) is July 1, 2017 through June 30, 2018. As a result of our analysis of the comments and information received, these final results differ from the Preliminary Results with respect to Ghigi 1870 S.p.A. and Pasta Zara S.p.A. (collectively, Ghigi/Zara) and Industria Alimentare Colavita S.p.A. (Indalco). For the final weighted-average dumping margins, see the “Final Results of Review” section.

DATES: Applicable January 16, 2020.

FOR FURTHER INFORMATION CONTACT: Joy Zhang (Ghigi/Zara) or George McMahon (Indalco), AD/CVD Operations, Office III, Enforcement and Compliance, International Trade Administration, U.S. Department of Commerce, 1401 Constitution Avenue NW, Washington, DC 20230; telephone: (202) 482-1168 or (202) 482-1167, respectively.

SUPPLEMENTARY INFORMATION:

Background

On September 12, 2019, Commerce published the Preliminary Results.¹ In accordance with 19 CFR 351.309(c)(1)(ii), we invited parties to comment on our Preliminary Results. On October 23 and October 24, 2019, we received case briefs from the Domestic Producers,² Ghigi/Zara, Agritalia S.r.L. and Tesa S.r.L.³ On October 31, 2019, we received rebuttal briefs from the Domestic Producers and Indalco.⁴ On December 3, 2019, Commerce held a public hearing at the joint request of Ghigi/Zara, Agritalia, and Tesa.⁵

¹ See Certain Pasta From Italy: Preliminary Results of Antidumping Duty Administrative Review; 2017-2018, 84 FR 48114 (September 12, 2019) (Preliminary Results), and accompanying Preliminary Decision Memorandum.

² The domestic producers are: Dakota Growers Pasta Company, Riviana Foods and Treehouse Foods (collectively, Domestic Producers).

³ See Domestic Producers' Letters, “Petitioners' Case Brief for Ghigi 1870 S.p.A/Pasta Zara S.p.A,” dated October 24, 2019, and “Petitioners' Case Brief for Industria Alimentare Colavita S.p.A.,” dated October 24, 2019; see also Ghigi/Zara's Letter, “Pasta from Italy; Ghigi/Zara case brief,” dated October 23, 2019, Agritalia S.r.L's Letter from, “Pasta from Italy; Agritalia case brief,” dated October 23, 2019, and Tesa SrL's letter, “Pasta from Italy; Tesa case brief,” dated October 23, 2019.

⁴ See Domestic Producers' Letters, “Petitioners' Rebuttal Brief for Ghigi 1870 S.p.A/Pasta Zara S.p.A,” dated October 31, 2019 and “Petitioners' Rebuttal Brief for Agritalia S.r.L,” dated October 31, 2019; see also Indalco's Letter, “Certain Pasta From Italy: Rebuttal Brief of Indalco S.p.A,” dated October 31, 2019.

⁵ See Public Hearing Transcript, dated December 10, 2019.

Scope of the Order

Imports covered by the order are shipments of certain non-egg dry pasta.⁶ The merchandise subject to review is currently classifiable under items 1901.90.90.95 and 1902.19.20 of the Harmonized Tariff Schedule of the United States (HTSUS). Although the HTSUS subheadings are provided for convenience and customs purposes, the written description of the merchandise subject to the order is dispositive.

⁶ For a full description of the scope of the order, see the “Issues and Decision Memorandum for the Final Results of Antidumping Duty Administrative Review on Certain Pasta from Italy; 2017-2018,” dated concurrently with, and hereby adopted by, this notice (Issues and Decision Memorandum).

Analysis of Comments Received

All issues raised in the case and rebuttal briefs by parties to this administrative review are addressed in the Issues and Decision Memorandum. A list of the issues that parties raised and to which we responded is attached to this notice as an Appendix. The Issues and Decision Memorandum is a public document and is on-file electronically via Enforcement and Compliance's Antidumping and Countervailing Duty Centralized Electronic Service System (ACCESS). ACCESS is available to registered users at https://access.trade.gov, and to all parties in the Central Records Unit, Room B8024 of the main Department of Commerce building. In addition, a complete version of the Issues and Decision Memorandum can be accessed directly on the internet at http://enforcement.trade.gov/frn/index.html. The signed Issues and Decision Memorandum and the electronic versions of the Issues and Decision Memorandum are identical in content.

Changes Since the Preliminary Results

Based on a review of the record and comments received from interested parties regarding our Preliminary Results, we have recalculated the weighted-average dumping margin for both Ghigi/Zara and Indalco.⁷ As a result of the recalculation of the rates for Ghigi/Zara and Indalco, the weighted-average dumping margin for each of the non-selected companies has changed.

⁷ See Issues and Decision Memorandum; see also Memorandum, “Certain Pasta from Italy: Calculation Memorandum—Ghigi/Zara,” dated concurrently with this notice; and Memorandum, “Certain Pasta from Italy: Calculation Memorandum—Indalco,” dated concurrently with this notice.

Final Results of the Review

As a result of this review, Commerce calculated weighted-average dumping margins that are above de minimis for Ghigi/Zara and Indalco for the period July 1, 2017 through June 30, 2018. Therefore, in accordance with section 735(c)(5)(A) of the Tariff Act of 1930, as amended (the Act), Commerce assigned an average of the weighted-average dumping margins calculated for Ghigi/Zara and Indalco to the two non-selected companies ⁸ in these final results, as referenced below.

⁸ The rate applied to the two non-selected companies is a weighted average based on the publicly-ranged U.S. volumes of the two examined companies with weighted-average dumping margins that are not zero or de minimis, for the period July 1, 2017 through June 30, 2018. See Memorandum, “Certain Pasta from Italy: Weighted-Average Dumping Margin for Respondents Not Selected for Individual Examination,” dated concurrently with this notice.

Producer or exporter | Weighted- average dumping margin (percent)
Ghigi 1870 S.p.A. and Pasta Zara S.p.A | 91.76
Industria Alimentare Colavita S.p.A | 0.50
Agritalia S.r.L | 44.56
Tesa SrL (Tesa) | 44.56

Duty Assessment

Commerce shall determine and U.S. Customs and Border Protection (CBP) shall assess antidumping duties on all appropriate entries. For an individually-examined respondent whose weighted-average dumping margin is not zero or a de minimis margin (i.e., less than 0.50 percent), we calculated importer-specific ad valorem duty assessment rates based on the ratio of the total amount of dumping calculated for the importer's examined sales to the total entered value of those same sales in accordance with 19 CFR 351.212(b)(1). Upon issuance of the final results of this administrative review, if an importer-specific assessment rate calculated in the final results is not zero or de minimis, Commerce will issue instructions directly to CBP to assess antidumping duties on appropriate entries. Where either the respondent's weighted-average dumping margin is zero or de minimis, or an importer-specific assessment rate is zero or de minimis, we will instruct CBP to liquidate the appropriate entries without regard to antidumping duties.

In accordance with Commerce's “automatic assessment” practice, for entries of subject merchandise during the POR produced by each respondent for which it did not know that its merchandise was destined for the United States, we will instruct CBP to liquidate unreviewed entries at the all-others rate if there is no rate for the intermediate company(ies) involved in the transaction.⁹

⁹ See Antidumping and Countervailing Duty Proceedings: Assessment of Antidumping Duties, 68 FR 23954 (May 6, 2003).

We intend to issue assessment instructions directly to CBP 15 days after publication of the final results of this review.

Cash Deposit Requirements

The following cash deposit requirements will be effective upon publication of the notice of final results of administrative review for all shipments of subject merchandise entered, or withdrawn from warehouse, for consumption on or after the publication of the final results of this administrative review, as provided by section 751(a)(2) of the Act: (1) The cash deposit rate for respondents noted above will be equal to the weighted-average dumping margin established in the final results of this administrative review; (2) for merchandise exported by producers or exporters not covered in this administrative review but covered in a prior completed segment of the proceeding, the cash deposit rate will continue to be the company specific rate published for the most recently completed segment of this proceeding; (3) if the exporter is not a firm covered in this review, a prior review, or the original investigation, but the producer is, then the cash deposit rate will be the rate established for the most recently completed segment of this proceeding for the producer of the subject merchandise; and (4) the cash deposit rate for all other producers or exporters will continue to be 15.45 percent, the all-others rate established in the less-than-fair-value investigation as modified by the section 129 determination.¹⁰ These cash deposit requirements, when imposed, shall remain in effect until further notice.

¹⁰ See Implementation of the Findings of the WTO Panel in US—Zeroing (EC): Notice of Determinations Under Section 129 of the Uruguay Round Agreements Act and Revocations and Partial Revocations of Certain Antidumping Duty Orders, 72 FR 25261 (May 4, 2007).

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in Commerce's presumption that reimbursement of antidumping and/or countervailing duties occurred and the subsequent assessment of doubled antidumping duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act and 19 CFR 351.221(b)(5).

Dated: January 10, 2020.
Jeffrey I. Kessler,
Assistant Secretary for Enforcement and Compliance.

Appendix

List of Topics Discussed in the Final Issues and Decision Memorandum

I. Summary

II. Background

III. Scope of the Order

IV. Discussion of the Issues

Comment 1: Whether Ghigi 1870 S.p.A. (Ghigi) and Zara S.p.A (Zara) (Ghigi/Zara) Correctly Reported Protein Content

Comment 2: Whether Ghigi/Zara Correctly Reported Shape Codes

Comment 3: Whether Partial Facts Available (AFA) is Warranted with Respect to Ghigi/Zara's U.S. Payment Dates

Comment 4: Whether to Recalculate Credit expense for Zara

Comment 5: Whether Zara Double-Counted the Scrap Offset

Comment 6: Whether Billing Adjustments Were Correctly Applied for Ghigi/Zara

Comment 7: Whether to Make Certain Adjustments to the Comparison and Margin Programs for the Final Results with Respect to Ghigi/Zara

Comment 8: Whether to Apply Ghigi/Zara's Preliminary Rate to Agritalia/Tesa

Comment 9: Whether to Apply AFA to Industria Alimentare Colavita S.p.A.'s (Indalco) Commission Expenses

Comment 10: Whether to Deny All Reported Billing Adjustments to Indalco's U.S. Sales Value

Comment 11: Whether to Adjust Indalco's Rebates Based on Verification Findings

Comment 12: Whether to Reject Indalco's Home Market Quantity Adjustments

Comment 13: Whether to Include U.S. Advertising Expenses in the Margin Program for Indalco

V. Recommendation

[FR Doc. 2020-00640 Filed 1-15-20; 8:45 am]

BILLING CODE 3510-DS-P